DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Wednesday and Thursday, June 11 and 12, 2008, in Weaverville, California. On June 11, the council convenes at 10 a.m. in the parking area of the Weaverville Victorian Inn, 2051 Main St., and departs for a field tour of Trinity County public lands managed by the BLM Redding Field Office. On June 12, the meeting begins at 8 a.m. in the Conference Room of the Weaverville Victorian Inn. The council will take public comments at 11 a.m.

FOR FURTHER INFORMATION CONTACT: Rich Burns, BLM Ukiah Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics include a discussion of shooting area management, support for BLM's use of California Conservation Corps crews, an update on access issues at South Cow Mountain, land use planning at Lack's Creek and an update on management of the Sacramento River Bend Area of Critical Environmental Concern. Members will also hear status reports on activities in the Arcata, Redding and Ukiah field offices' areas of jurisdiction. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: March 28, 2008.
Joseph J. Fontana,
Public Affairs Officer.

[FR Doc. E8-6888 Filed 4-2-08; 8:45 am]

BILLING CODE 4310-40-P